SECURITIES AND EXCHANGE COMMISSION

[Release No. IC-25245]

Notice of Applications for Deregistration Under Section 8(f) of the Investment Company Act of 1940

October 26, 2001.

The following is a notice of applications for deregistration under section 8(f) of the Investment Company Act of 1940 for the month of October, 2001. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on November 12, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus, at (202) 942-0564, SEC, Division of Investment Management, Office of Investment Company Regulation, 450 Fifth Street, NW, Washington, DC 20549-0506.

4 Winds Family of Funds [File No. 811-10099]

Summary: Applicant seeks an order declaring that it has ceased to be an investment company. On September 18, 2001, applicant made a liquidating distribution to its shareholders based on net asset value. Applicant incurred no expenses in connection with the liquidation.

Filing Date: The application was filed on September 21, 2001.

Applicant's Address: 5800 Corporate Dr., Pittsburgh, PA 15237-7000.

First Choice Funds Trust (File No. 811-7681]

Summary: Applicant seeks an order declaring that it has ceased to be an investment company. On May 17, 2001, applicant made a final liquidating distribution to its shareholders based on net asset value. Expenses of $58,000 incurred in connection with the liquidation were paid by First American Capital Management, Inc., applicant's investment adviser.

Filing Dates: The application was filed on September 24, 2001, and amended on October 22, 2001.

Applicant's Address: c/o PFPC Inc., 4400 Computer Drive, P.O. Box 5176, Westborough, MA 01581.

Neuberger Berman Equity Trust [File No. 811-7784]; Neuberger Berman Equity Assets [File No. 811-8106]; Neuberger Berman Equity Series [File No. 811-9011]

Summary: Each applicant seeks an order declaring that it has ceased to be an investment company. On December 15, 2000, each applicant transferred its assets to Neuberger Berman Equity Funds based on net asset value. Expenses of $400,342, $25,626 and $1,701, respectively, incurred in connection with the reorganizations were paid by each applicant.

Filing Date: The applications were filed on October 18, 2001.

Applicants' Address: 605 Third Ave., 2nd Floor, New York, NY 10158-0180.

The Pillar Funds [File No. 811-6509]

Summary: Applicant seeks an order declaring that it has ceased to be an investment company. By August 27, 2001, each series of applicant transferred its assets to a corresponding series of Galaxy Fund or Galaxy Fund II, based on net asset value. Expenses of $692,397 incurred in connection with the reorganization were paid by applicant and Fleet Investment Advisors Inc., applicant's investment adviser.

Filing Date: The application was filed on September 28, 2001.

Applicants' Address: 101 Federal St., Boston, MA 02112.

Scottish Widows International Fund [File No. 811-6019]

Summary: Applicant seeks an order declaring that it has ceased to be an investment company. On May 30, 1997, applicant transferred its assets to Federal International Equity Fund, a portfolio of International Series, Inc., based on net asset value. Applicant incurred no expenses in connection with the reorganization.

Filing Date: The application was filed on September 21, 2001.

Applicant's Address: Penn Square Management Corporation, 2650 Westview Dr., Wyomissing, PA 19610.

West University Fund, Inc. [File No. 811-9124]

Summary: Applicant seeks an order declaring that it has ceased to be an investment company. On March 16, 2000, applicant made a liquidating distribution to its shareholders based on net asset value. Applicant incurred no expenses in connection with the liquidation.

Filing Date: The application was filed on October 11, 2001.

Applicant's Address: 3030 University Blvd., Houston, TX 77005.

INVESCO Global Health Sciences Fund [File No. 811-6476]

Summary: Applicant, a closed-end investment company, seeks an order declaring that it has ceased to be an investment company. On May 15, 2001, applicant transferred its assets to INVESCO Advantage Global Health Sciences Fund, a series of INVESCO Counselor Series Funds, Inc., based on net asset value. Expenses of $191,690 incurred in connection with the reorganization were paid by applicant.

Filing Date: The application was filed on September 21, 2001.

Applicant's Address: 7800 E. Union Ave., Denver, CO 80237.

William Penn Interest Income Fund [File No. 811-5177]

Summary: Applicant seeks an order declaring that it has ceased to be an investment company. On May 30, 1997, applicant transferred the assets of its portfolios to corresponding portfolios of Federated Municipal Securities Income Trust, Federated Investment Series Funds, Inc., Money Market Obligations Trust, and Federated Fund For U.S. Government Securities, Inc., based on net asset value. Applicant incurred no expenses in connection with the reorganization.

Filing Date: The application was filed on September 21, 2001.

Applicant's Address: Penn Square Management Corporation, 2650 Westview Dr., Wyomissing, PA 19610.

Alliance Income Builder Fund, Inc. [File No. 811-6372]

Summary: Applicant seeks an order declaring that it has ceased to be an investment company. On November 13, 1998, applicant transferred its assets to Alliance Balanced Shares, Inc. based on net asset value. Applicant incurred no expenses in connection with the reorganization.

Filing Date: The application was filed on September 28, 2001.

Applicant's Address: 1345 Avenue of the Americas, New York, NY 10105.

Alliance Limited Maturity Government Fund, Inc. [File No. 811-6627]; Alliance Mortgage Securities Income Fund, Inc. [File No. 811-3829]

Summary: Each applicant seeks an order declaring that it has ceased to be an investment company. On December 8, 2000 and December 15, 2000, respectively, each applicant transferred its assets to Alliance Bond Fund, Inc.—U.S. Government Portfolio based on net asset value. Applicants incurred no expenses in connection with the reorganizations.

Filing Date: The applications were filed on September 27, 2001.

Applicants' Address: 1345 Avenue of the Americas, New York, NY 10105.

Alliance World Income Trust, Inc. [File No. 811-6205]; Alliance Short Term Multi Market Trust, Inc. [File No. 811-5771]

Summary: Each applicant seeks an order declaring that it has ceased to be an investment company. On October 16, 1998 and November 13, 1998, respectively, each applicant transferred its assets to Alliance Multi-Market Strategy Trust, Inc. based on net asset value. Applicants incurred no expenses in connection with the reorganizations.

Filing Dates: The applications were filed on September 28, 2001 and September 27, 2001, respectively.

Applicants' Address: 1345 Avenue of the Americas, New York, NY 10105.

Alliance Tax-Free Shares, Inc. [File No. 811-2717]; Alliance Insured California Tax Exempt Shares, Inc. [File No. 811-4359]

Summary: Each applicant seeks an order declaring that it has ceased to be an investment company. On July 10, 1987, each applicant transferred its assets to Alliance High Bracket Tax-Free Income Fund, Inc., and Alliance Tax-Free Income Fund, Inc, respectively, each a series of Alliance Municipal Income Fund, Inc., based on net asset value. Applicants incurred no expenses in connection with the reorganizations.

Filing Date: The applications were filed on September 28, 2001.

Applicants' Address: 1345 Avenue of the Americas, New York, NY 10105.

Van Wagoner Private Opportunities Fund, L.P. [File No. 811-10279];

Summary: Applicant, a closed-end investment company, seeks an order declaring that it has ceased to be an investment company. Applicant has never made a public offering of its securities and does not propose to make a public offering. Applicant will continue to operate as a private investment company in reliance on section 3(c)(1) of the Act.

Filing Dates: The applications were filed on August 10, 2001 and amended on October 5, 2001.

Applicants' Address: 345 California Street, Suite 2450, San Francisco, CA 94104.

Blanchard Precious Metals Fund, Inc. [File No. 811-5303]

Summary: Applicant seeks an order declaring that it has ceased to be an investment company. On February 27, 1998, applicant transferred its assets to Keystone Precious Metals Holdings, Inc. based on net asset value. Applicant incurred no expenses in connection with the reorganization.

Filing Dates: The applications was filed on August 31, 2001, and amended on October 10, 2001.

Applicants' Address: 5800 Corporate Dr., Pittsburgh, PA 15237-7000.

Ameritor Industry Fund [File No. 811-855]

Summary: Applicant seeks an order declaring that it has ceased to be an investment company. On March 7, 2001, applicant made a liquidating distribution to its shareholders based on net asset value. As of October 17, 2001, applicant had 351 shareholders who have not redeemed their shares. First Union National Bank is holding the unclaimed shareholder assets. Applicant intends to liquidate each remaining shareholder's interest by canceling each remaining shareholder certificate and sending each such shareholder a check representing their remaining interest in applicant. Expenses of approximately $7,647 incurred in connection with the liquidation were paid by applicant.

Filing Dates: The application was filed on July 23, 2001 and amended on October 17, 2001.

Applicants' Address: 4400 MacArthur Blvd., NW, Suite 301, Washington, DC 20007-2521.

Phoenix-Goodwin Multi-Sector Fixed Income Fund, Inc. [File No. 811-5909]

Summary: Applicant seeks an order declaring that it has ceased to be an investment company. On October 30, 2000, applicant transferred its assets to Phoenix-Goodwin Multi-Sector Short Term Bond Fund, a series of Phoenix Multi-Series Trust, based on net asset value. Expenses of $70,382 incurred in connection with the reorganization were paid by the acquiring fund and Phoenix Investment Partners, Ltd.

Filing Date: The application was filed on June 12, 2001.

Applicants' Address: 101 Munson St., Greenfield, MA 01301.

For the Commission, by the Division of Investment Management, pursuant to delegated authority.
Margaret H. McFarland,
Deputy Secretary.

[FR Doc. 01-27418 Filed 10-31-01; 8:45 am]

BILLING CODE 8010-01-M